DEPARTMENT OF DEFENSE

Office of the Secretary

Privacy Act of 1974; system of Records

AGENCY: Office of the Secretary, DoD.

ACTION: Notice to alter a system of records.

SUMMARY: The Office of the Secretary of Defense is altering a system of records to its existing inventory of record systems subject to the Privacy Act of 1974 (5 U.S.C. 552a), as amended.

DATES: The changes will be effective on January 11, 2006, unless comments are received that would result in a contrary determination.

ADDRESSES: Send comments to the OSD Privacy Act Coordinator, Directives and Records Management Branch, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on December 5, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated: February 8, 1996 (February 20, 1996, 61 FR 6427).

Dated: December 6, 2005.
L.M. Bynum,
OSD Federal Register Liaison Officer, Department of Defense.

DHA 11

System name:

Defense Medical Personnel Preparedness Database (February 25, 2005, 70 FR 9282).

Changes:

* * * * *

Categories of individuals covered by the system:

Delete “non-appropriated fund employees and foreign nationals” and replace with: “non-appropriated fund employees, foreign nationals, DoD contractors and volunteers.”

* * * * *

DHA 11

System name:

Defense Medical Personnel Preparedness Database.

System location:

Department of Defense, TRICARE Management Activity, 5205 Leesburg Pike, Suite 1100, Falls Church, VA 22041-3238.

Categories of individuals covered by the system:

Active Duty Military, Reserve, National Guard, and DoD civilian employee, to include non-appropriated fund employees and foreign nationals, DoD contractors, and volunteers.

Categories of records in the system:

Individual's name, gender, work address and telephone number, Social Security Number, medical training information including class names and class dates, and personnel readiness documentation that includes immunization and other health information required to determine an individual's fitness to perform their duties related to the mission of the Armed Forces and the Military Health System.

Authority for maintenance of the system:

5 U.S.C. 301, Departmental regulations; E.O. 12656, Assignment of Emergency Preparedness Responsibilities; DoD-I 1322.24, Military Medical Readiness Skills Training; DoD 6013.13-M, Medical Expense Performance Reporting System (MEPRS) for Fixed, Medical/Dental Treatment Facilities; DoD 5136.1-P, Medical Readiness Strategic Plan (MRSP); and E.O. 9397 (SSN).

Purpose(s):

The Office of the Secretary is establishing a single Department of Defense electronic database that provides the preparedness of DoD medical personnel to meet national security emergencies.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of OSD's compilation of systems of records notices apply to this system.

Policies and practices for storing, retrieving, accessing, retaining, and disposing of records in the system:

Storage:

The records are maintained in computers and computer output products.

Retrievability:

Records are retrieved by individual's name and Social Security Number.

Safeguards:

The records are maintained in a government-controlled facility. Physical access is limited to personnel with appropriate clearance and need-to-know. Access to computerized data is restricted by password. Passwords are changed periodically.

Retention and disposal:

Maintained for as long as DoD medical personnel are active and in Military Health Services System. Upon death or disenrollment from system, records are marked for inactive file and kept an additional five years. Storage media containing data with personal identifiers will be erased (degaussed) after the five-year inactive record retention.

System manger(s) and address:

Program Manager, Resources Information Technology Program Office, 5205 Leesburg Pike, Suite 1100, Falls Church, VA 22041-3238.

Notification procedure:

Individuals seeking to determine whether information about themselves is contained in this system of records should address written inquiries to the TRICARE Management Activity Privacy Office, 5111 Leesburg Pike, Suite 810, Falls Church, VA 22041-3238.

Requests must contain the individual's full name and Social Security Number.

Record access procedures:

Individuals seeking to determine whether information about themselves is contained within the system should address written inquiries to the TRICARE Management Activity Privacy Office, 5111 Leesburg Pike, Suite 810, Falls Church, VA 22041-3238.

Requests must contain the individual's full name and Social Security Number.

Contesting record procedures:

Individuals may request a record be amended. Correspondence should be sent to TRICARE Management Activity Privacy Office, 5111 Leesburg Pike, Suite 810, Falls Church, VA 22041-3238. Individual must include as much information, documentation, or other evidence as needed to support your request to amend the pertinent record.

Contesting record procedures:

The OSD rules for accessing records, for contesting contents and appealing initial agency determinations are contained in OSD Administrative Instruction 81; 32 CFR part 311; or may be obtained from the system manager.

Records source categories:

Information about individuals in the records is obtained primarily from DoD Pay and Personnel Systems, the Military Medical Eligibility System (know as the Defense Enrollment Eligibility Reporting System), and from personnel who work at DoD Medical facilities. Additional information may be obtained from DoD supervisors or DoD operational records.

Exemptions claimed for the system:

None.

[FR Doc. 05-23881 Filed 12-9-05; 8:45 am]

BILLING CODE 5001-06-M